DEPARTMENT OF ENERGY

Federal Energy Regulatory Commission

[Docket No. ER00-1858-001, et al.]

New Hampshire Electric Cooperative, Inc., et al; Electric Rate and Corporate Regulation Filings.

March 20, 2000.

Take notice that the following filings have been made with the Commission:

1. New Hampshire Electric Cooperative, Inc.

[Docket No. ER00-1858-001]

Take notice that on March 14, 2000, New Hampshire Electric Cooperative, Inc. (NHEC), tendered for filing the Revised Petition of New Hampshire Electric Cooperative, Inc., for Acceptance of Initial Rate Schedule, Waivers, and Blanket Authority (Revised Petition). The Revised Petition replaces the March 10, 2000 Petition of New Hampshire Electric Cooperative, Inc., for Acceptance of Initial Rate Schedule, Waivers, and Blanket Authority.

By its March 14, 2000 filing, NHEC petitioned the Commission for acceptance of NHEC Rate Schedule, the granting of certain blanket approvals, including the authority to sell electricity at market-based rates; and the waiver of certain Commission Regulations.

NHEC intends to engage in wholesale electric power and energy sales as a marketer. NHEC is a consumer-owned electric generation and distribution cooperative that provides electric service to 65,000 customers in New Hampshire

Comment date: April 4, 2000, in accordance with Standard Paragraph E at the end of this notice.

2. Florida Keys Electric Cooperative Association, Inc.

[Docket No. ER00-1883-000]

Take notice that on March 15, 2000, Florida Keys Electric Cooperative Association, Inc., tendered for filing a revised rate for non-firm transmission service provided to the City Electric System, Key West, Florida in accordance with the terms and conditions of the Long-Term Joint Investment Transmission Agreement between the Parties.

A copy of this filing has been served on CES and the Florida Public Service Commissioner.

Comment date: April 5, 2000, in accordance with Standard Paragraph E at the end of this notice.

3. Southwest Power Pool, Inc.

[Docket No. ER00-1884-000]

Take notice that on March 15, 2000, Southwest Power Pool, Inc. (SPP), tendered for filing an executed service agreement for firm point-to-point transmission service under the SPP Tariff with Southwestern Public Service Company (SPS).

SPP requests an effective date of January 1, 2002 for this agreement.

Copies of this filing were served upon SPS.

Comment date: April 5, 2000, in accordance with Standard Paragraph E at the end of this notice.

4. Duke Energy Corporation

[Docket No. ER00-1885-000]

Take notice that on March 15, 2000, Duke Energy Corporation (Duke), on behalf of Duke Electric Transmission, a division of Duke, tendered for filing an Interconnection and Operating Agreement with Broad River Energy LLC (Broad River).

Duke requests an effective date of March 16, 2000.

Duke states that a copy of this filing was been mailed to Broad River.

Comment date: April 5, 2000, in accordance with Standard Paragraph E at the end of this notice.

5. Central Illinois Light Company

[Docket No. ER00-1886-000]

Take notice that on March 15, 2000, Central Illinois Light Company (CILCO), 300 Liberty Street, Peoria, Illinois 61202, tendered for filing with the Commission an Index of Customers under its Market Rate Power Sales Tariff and one service agreement with one new customer, British Columbia Power Exchange Corporation (POWERX).

CILCO requested an effective date of March 9, 2000.

Copies of the filing were served on the affected customers and the Illinois Commerce Commission.

Comment date: April 5, 2000, in accordance with Standard Paragraph E at the end of this notice.

6. Central Illinois Light Company

[Docket No. ER00-1887-000]

Take notice that on March 15, 2000, Central Illinois Light Company (CILCO), 300 Liberty Street, Peoria, Illinois 61202, tendered for filing with the Commission a substitute Index of Customers under its Coordination Sales Tariff and one service agreement with one new customer, British Columbia Power Exchange Corporation (POWERX).

CILCO requested an effective date of March 9, 2000.

Copies of the filing were served on the affected customer and the Illinois Commerce Commission.

Comment date: April 5, 2000, in accordance with Standard Paragraph E at the end of this notice.

7. Cinergy Services, Inc.

[Docket No. ER00-1888-000]

Take notice that on March 15, 2000, Cinergy Services, Inc. (Cinergy), tendered for filing a Firm Point-To-Point Service Agreement under Cinergy's Open Access Transmission Service Tariff (the Tariff) entered into between Cinergy and Conectiv Energy Supply, Inc. (Conectiv).

Cinergy and Conectiv are requesting an effective date of March 1, 2000.

Comment date: April 5, 2000, in accordance with Standard Paragraph E at the end of this notice.

8. Cinergy Services, Inc.

[Docket No. ER00-1889-000]

Take notice that on March 15, 2000, Cinergy Services, Inc. (Cinergy), tendered for filing a Non-Firm Point-To-Point Service Agreement under Cinergy's Open Access Transmission Service Tariff (the Tariff) entered into between Cinergy and Texas Electric Marketing, LLC (Texas).

Cinergy and Texas are requesting an effective date of February 20, 2000.

Comment date: April 5, 2000, in accordance with Standard Paragraph E at the end of this notice.

9. Cinergy Services, Inc.

[Docket No. ER00-1890-000]

Take notice that on March 15, 2000, Cinergy Services, Inc. (Cinergy), tendered for filing a Firm Point-To-Point Service Agreement under Cinergy's Open Access Transmission Service Tariff (the Tariff) entered into between Cinergy and Texas Electric Marketing, LLC (Texas).

Cinergy and Texas are requesting an effective date of February 20, 2000.

Comment date: April 5, 2000, in accordance with Standard Paragraph E at the end of this notice.

10. Cinergy Services, Inc.

[Docket No. ER00-1891-000]

Take notice that on March 15, 2000, Cinergy Services, Inc. (Cinergy), tendered for filing a Non-Firm Point-To-Point Service Agreement under Cinergy's Open Access Transmission Service Tariff (the Tariff) entered into between Cinergy and Conectiv Energy Supply, Inc., (Conectiv).

Cinergy and Conectiv are requesting an effective date of March 1, 2000.

Comment date: April 5, 2000, in accordance with Standard Paragraph E at the end of this notice.

11. Cinergy Services, Inc.

[Docket No. ER00-1892-000]

Take notice that on March 15, 2000, Cinergy Services, Inc. (Cinergy), tendered for filing a Non-Firm Point-To-Point Service Agreement under Cinergy's Open Access Transmission Service Tariff (the Tariff) entered into between Cinergy and Allegheny Energy Supply Company, LLC (Allegheny).

Cinergy and Allegheny are requesting an effective date of February 21, 2000.

Comment date: April 5, 2000, in accordance with Standard Paragraph E at the end of this notice.

12. Cinergy Services, Inc.

[Docket No. ER00-1893-000]

Take notice that on March 15, 2000, Cinergy Services, Inc. (Cinergy), tendered for filing a Firm Point-To-Point Service Agreement under Cinergy's Open Access Transmission Service Tariff (the Tariff) entered into between Cinergy and Allegheny Energy Supply Company, LLC (Allegheny).

Cinergy and Allegheny are requesting an effective date of February 21, 2000.

Comment date: April 5, 2000, in accordance with Standard Paragraph E at the end of this notice.

13. Consumers Energy Company

[Docket No. ER00-1894-000]

Take notice that on March 15, 2000, Consumers Energy Company (Consumers), tendered for filing a Facility Engineering Authorization Agreement between Consumers and SEI Michigan, L.L.C. [SEI] (Agreement), dated March 3, 2000, (Agreement). Under the Agreement, Consumers is to perform engineering and other preliminary work associated with providing an electrical connection between a generating plant to be built by SEI and Consumers' transmission system.

Consumers requested that the Agreements be allowed to become effective by March 3, 2000.

Copies of the filing were served upon SEI and the Michigan Public Service Commission.

Comment date: April 5, 2000, in accordance with Standard Paragraph E at the end of this notice.

14. Dynegy Midwest Generation, Inc.

[Docket No. ER00-1895-000]

Take notice that on March 15, 2000, Dynegy Midwest Generation, Inc., 1000 Louisiana, Suite 5800, Houston, Texas 77002-5050 tendered for filing with the Federal Energy Regulatory Commission a Notice of Succession to reflect a name change from Illinova Power Marketing, Inc., to Dynegy Midwest Generation, Inc.

Comment date: April 5, 2000, in accordance with Standard Paragraph E at the end of this notice.

Standard Paragraph E

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-7577 Filed 3-27-00; 8:45 am]

BILLING CODE 6717-01-P